DEPARTMENT OF ENERGY

Energy Information Administration

Agency Information Collection Extension

AGENCY: Energy Information Administration (EIA), Department of Energy.

ACTION: Information collection extension; notice and request for comments.

SUMMARY: EIA, pursuant to the Paperwork Reduction Act of 1995, proposes to extend without changes for three years the Form DOE-887, “DOE Customer Surveys” with the Office of Management and Budget (OMB). Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 19, 2012. If you anticipate difficulty in submitting comments within that period, contact the person listed in ADDRESSES as soon as possible.

ADDRESSES: Written comments may be sent to Colleen Blessing, EI-40, Energy Information Administration, Department of Energy, 1000 Independence Avenue SW., Washington, DC 20585, or by fax at (202) 586-0114, or by email at colleen.blessing@eia.gov. Alternatively, Colleen Blessing may be contacted by telephone at (202) 586-6482.

FOR FURTHER INFORMATION CONTACT: Requests for additional information or copies of the information collection instrument and instructions should be directed to Colleen Blessing at the address listed, above.

SUPPLEMENTARY INFORMATION: This information collection request contains:

(1) OMB No.: 1901-0302;

(2) Information Collection Request Title: “DOE Customer Surveys;”

(3) Type of Request: Three-year extension without changes;

(4) Purpose: The DOE-887, “DOE Customer Surveys,” data collection involves contacting users of The U.S. Department of Energy (DOE) products or other services, and individuals or businesses in partnership agreements with DOE. These customers are contacted to determine their needs and also the methods by which DOE can improve its products and services to better meet these needs. DOE customer surveys are conducted by EIA primarily using Web-based questionnaires to collect the customer feedback data.

Customer information is needed to make DOE products and services more effective, efficient, and less costly. Data from some customer surveys may also help develop benchmarks to evaluate DOE customer service performance.

Both quantitative and qualitative studies are developed by EIA. Quantitative studies classify and count questionnaire response items and examine the statistical significance of response types in attempting to explain what is observed. EIA conducts quantitative studies in asking questions concerning satisfaction with timeliness, courtesy, accuracy and other particular aspects of the agency's operations. Qualitative studies seek to find patterns in the words and actions of study participants and involve these participants providing detailed descriptions, in their own words. Examples of qualitative studies conducted by EIA include a focus group of customers assembled to discuss a specific set of questions, and a cognitive laboratory experiment that asks volunteer subjects to describe their opinions regarding a product or service;

(5) Annual Estimated Number of Respondents: 50,000;

(6) Annual Estimated Number of Total Responses: 50,000;

(7) Annual Estimated Number of Burden Hours: 12,500 hours (50,000 respondents times 1 response per year, times .25 hours per response);

(8) Annual Estimated Reporting and Recordkeeping Cost Burden: There are not any anticipated reporting or recordkeeping costs for these surveys;

Statutory Authority: Executive Order 12862 § 1, 58 FR 48257 (Sept. 11, 1993).

Issued in Washington, DC, on September 14, 2012.
Stephanie Brown,
Director, Office of Survey Development and Statistical Integration, Energy Information Administration.

[FR Doc. 2012-23239 Filed 9-19-12; 8:45 am]

BILLING CODE 6450-01-P